GULF COAST ECOSYSTEM RESTORATION COUNCIL

[Docket Number 106292017-1111-14]

Notice of Proposed Subaward Under a Council-Selected Restoration Component Award

AGENCY: Gulf Coast Ecosystem Restoration Council.

ACTION: Notice.

SUMMARY: The Gulf Coast Ecosystem Restoration Council (Council) publishes notice of a proposed subaward from the U.S. Department of Commerce (DOC), National Oceanic and Atmospheric Administration (NOAA) Restoration Center to The Nature Conservancy (TNC), a nonprofit organization, for the purpose of establishing the Gulf Coast Conservation Corps (GulfCorps) program to support meaningful Gulf of Mexico Habitat Restoration via Conservation Corps Partnerships as approved in the Initial Funded Priority List (FPL).

FOR FURTHER INFORMATION CONTACT: Please send questions by email to raams_pgmsupport@restorethegulf.gov.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Initial FPL, which is available on the Council's Web site at https://www.restorethegulf.gov/council-selected-restoration-component/funded-priorities-list, RESTORE Act funds will support the Gulf of Mexico Habitat Restoration via Conservation Corps Partnerships, which is also referred to as the GulfCorps program. Through an interagency agreement with NOAA in the amount of $7,500,000, the GulfCorps program will contribute to meaningful Gulf Coast ecosystem restoration, while economically benefiting coastal communities by providing education, training, and opportunities to workers to implement conservation projects. The GulfCorps program will help establish partnerships among Federal, State, academic, and non-profit organizations to provide local labor for restoration projects; and will work through these partnerships to recruit, train, and employ workers to develop skills that will contribute to a local restoration-based workforce.

NOAA will coordinate development of the GulfCorps program in partnership with other Council members, as a means of creating a program that is reflective of Gulf priorities. NOAA will work within a collaborative process to prioritize projects with State partners and move forward on projects most supported by the respective State Council members, also considering synergies of pairing the GulfCorps program with other projects selected for the FPL, where appropriate. Through a proposed subaward to TNC in the amount of $7,000,000, TNC will recruit and train GulfCorps participants who will be mobilized to provide labor on selected coastal restoration projects in each Gulf State. Projects may include invasive species removal, shoreline protection and enhancement, riparian restoration, debris removal, re-vegetation, reef restoration, and habitat monitoring and conservation. TNC and their partners will provide training commensurate with the selected projects, as well as provide participants with soft skills that can help contribute to employability in restoration-based vocations.

Will D. Spoon,
Program Analyst, Gulf Coast Ecosystem Restoration Council.

[FR Doc. 2017-13633 Filed 6-28-17; 8:45 am]

BILLING CODE 6560-58-P